DEPARTMENT OF TRANSPORTATION

Federal Highway Administration

Environmental Impact Statement: Boone County and the City of Columbia, MO

AGENCY: Federal Highway Administration (FHWA), DOT.

ACTION: Notice of Intent.

SUMMARY: The FHWA is issuing this notice to advise the public that an environmental impact statement (EIS) will be prepared for proposed improvements between the I-70 and State Route Z interchange and the U.S. Route 63 and State Route AC interchange in Boone County and the City of Columbia, Missouri.

FOR FURTHER INFORMATION CONTACT: Ms. Peggy J. Casey, Environmental Projects Engineer, FHWA Division Office, 3220 West Wedgewood, Suite H, Jefferson City, MO 65109, Telephone: (573) 638-2620 or Mr. Dave Nichols, Director of Project Development, Missouri Department of Transportation, P.O. Box 270, Jefferson City, MO 65102, Telephone: (573) 751-4586.

SUPPLEMENTARY INFORMATION: The FHWA, in cooperation with the Missouri Department of Transportation (MoDOT), will prepare an EIS for a proposal for improvements between the I-70 and State Route Z interchange and the U.S. 63 and State Route AC interchange in Boone County and the City of Columbia, Missouri. A location study will run concurrently with the preparation of the EIS and will provide definitive reasonable alternatives for evaluation in the EIS. The proposed action will accomplish several goals: (1) Improve safety, (2) decrease congestion, and (3) support community regional development.

The proposed project will include improvements to be located within a study area defined by U.S. Route 63 on the west, State Route PP (Clark Lane) on the north, State Route AC on the south, and State Route Z on the east. The study area is approximately 5 miles in length and 4 miles in width. Known potential impacts include residential and/or commercial relocations and access changes. A Department of Army Section 404 permit and a floodplain development permit from the State Emergency Management Agency may be required.

Alternatives under consideration include (1) taking no action, (2) implementing transportation system management options, (3) and build alternatives. Substantial preliminary coordination has occurred with local officials. As part of the scoping process, an interagency coordination meeting will be held with all appropriate Federal, state and local agencies. This coordination will continue throughout the study as an ongoing process. In addition, public information meetings and further meetings with community officials will be held to solicit public and agency input. A location public hearing will be held to present the findings of the Draft EIS. Public notice will be given announcing the time and place of all public meetings and the public hearing.

To ensure that the full range of issues related to this proposed action are addressed and all significant issues are identified, comments and suggestions are invited from all interested parties. Comments or questions concerning this proposed action and the EIS should be directed to the FHWA or MoDOT at the addresses previously provided.

(Catalog of Federal Domestic Assistance Program Number 20.205, Highways Planning and Construction. The regulations implementing Executive Order 12372 regarding intergovernmental consultation on Federal programs and activities apply to this program.)

Issued on February 13, 2006.
Peggy J. Casey,
Environmental Projects Engineer, Jefferson City.

[FR Doc. 06-1774 Filed 2-24-06; 8:45 am]

BILLING CODE 4910-22-M